DEPARTMENT OF HOMELAND SECURITY

U.S. Immigration and Customs Enforcement

[OMB Control Number 1653-0054]

Agency Information Collection Activities; Extension of an Existing Information Collection: Training Plan for Science, Technology, Engineering and Mathematics (STEM) Optional Practical Training (OPT) Students

AGENCY: Student Exchange Visitor Program (SEVP), U.S. Immigration and Customs Enforcement (ICE), Department of Homeland Security (DHS).

ACTION: 30-Day notice and request for comments.

SUMMARY: DHS ICE SEVP will submit the following information collection request to the Office of Management and Budget (OMB) for review and clearance in accordance with the Paperwork Reduction Act (PRA) of 1995. DHS previously published this information collection request in the Federal Register on Thursday, November 1, 2018, for a 60-day public comment period. Two comments were received. The purpose of this notice is to allow an additional 30 days for public comments. To provide greater transparency, ICE is providing clarification of the changes in the 30-day notice. The changes to the collection were to increase the burden estimates based on the anticipated increase in the number of students enrolled in STEM. There were no other changes to the collection or form.

This notice of update for the information collection is published in the Federal Register to obtain comments from the public and affected agencies. You may access the updated Supporting Statement to this notice by visiting the Federal eRulemaking Portal site at: http://www.regulations.gov and enter ICEB-2018-0003-0001 in the search box.

DATES: Comments are encouraged and will be accepted until April 10, 2019.

ADDRESSES: Interested persons are invited to submit written comments on the information collection to the Office of Information and Regulatory Affairs, Office of Management and Budget. Comments should be directed to OMB Desk Officer via electronic mail to dhsdeskofficer@omb.eop.gov. All submissions received must include the agency name and the OMB Control Number 1653-0054 in the subject line.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

SUPPLEMENTARY INFORMATION: The Form I-983, “Training Plan” is an information collection directed in the rulemaking, “Improving and Expanding Training Opportunities for F-1 Nonimmigrant Students with STEM Degrees and Cap-Gap Relief for All Eligible F-1 Students,” cited above. The final rule was published on March 11, 2016, and went into effect on May 10, 2016.

The Form I-983 serves as a planning document for those F-1 nonimmigrant students who are eligible for an extension of their optional practical training (OPT) benefit and who elect to do so. To be eligible for the extension, students must have completed a degree in a Science, Technology, Engineering or Mathematics (STEM) field approved by the Department of Homeland Security and must already be engaged in post-completion OPT. The information collection requires input from the student, the SEVP certified school that recommends the student, and the employer.

During the 60-day public commenting period, two comments were received. Both commenters requested clarification on the nature of the changes to the information collection. In response to these comments, ICE is providing an explanation of the changes in the 30-day notice. The changes to the collection were to increase the burden estimates based on the anticipated increase in the number of students enrolled in STEM. There were no other changes to the collection or form.

OMB is particularly interested in comments that:

(1) Evaluate whether the proposed collection of information is necessary for the proper performance of the functions of the agency, including whether the information will have practical utility;

(2) Evaluate the accuracy of the agencies' estimate of the burden of the proposed collection of information, including the validity of the methodology and assumptions used;

(3) Enhance the quality, utility, and clarity of the information to be collected; and

(4) Minimize the burden of the collection of information on those who are to respond, including using appropriate automated, electronic, mechanical, or other technological collection techniques or other forms of information technology, e.g., permitting electronic submission of responses.

Overview of Updated Information Collection

(1) Type of Information Collection: Extension of a currently approved information collection.

(2) Title of the Form/Collection: Training Plan for STEM OPT Students.

(3) Agency form number, if any, and the applicable component of the Department of Homeland Security sponsoring the collection: Form I-983, U.S. Immigration and Customs Enforcement.

(4) Affected public who will be asked or required to respond, as well as a brief abstract: Primary: Individuals or households. The Form I-983 serves as a planning document for STEM OPT students, the SEVP-certified school, and the employer. The Training Plan for STEM OPT students serves as an evidentiary document for SEVP by setting forth the terms and conditions of the practical training, documenting the obligations of the three parties that are involved—the F student, the SEVP-certified school, and the employer—and by tracking the student's progress. The student and the employer must each complete and sign their part of the Form I-983. The SEVP-certified school will incorporate the completed and signed Form I-983, as part of the student's school file. The SEVP-certified school will make the student's Form I-983 available to DHS upon request.

(5) An estimate of the total number of responses and the amount of time estimated for an average respondent (student, DSO, or employer) to respond:

Table—Calculation of Estimated Annual Reporting Burden for Training Plan
Function | Average annual responses | Time per response (hours) | Average annual hour burden
Student Burden
Initial Completion of Training Plan | 166,406 | 2.17 | 361,101
12-month Evaluation Requirements | 166,406 | 1.50 | 249,609
Sub-Total |  |  | 610,710
DSO Burden
Initial Review of Training Plan & Recordkeeping | 166,406 | 1.33 | 221,320
Review of Evaluation & Recordkeeping | 166,406 | 1.33 | 221,320
Sub-Total |  |  | 442,640
Employer Burden
Initial completion of Training Plan | 166,406 | 4.00 | 665,624
Evaluation Requirements | 166,406 | 0.75 | 124,805
Sub-Total |  |  | 790,429
Total Burden Hours |  |  | 1,843,779

(6) An estimate of the total public burden (in hours) associated with the collection: 1,843,779 annual burden hours.

Note: SEVP saw an annual increase of 124,314 responses in each respondent group: Students, DSOs, and employers during this reporting cycle. This reflects an unanticipated industry growth. SEVP subject matter experts predict a one percent increase of STEM OPT participants during the next three years.

SEVP subject matter experts anticipate a reduction in DSO burden during the next three years as technical improvements, such as the new Portal, are more fully deployed. Table 3 shows the differences between the current estimates and the previous supporting statement.

Table 1—Summary of Current Estimates and Differences
| Nonimmigrant | DSO | Employer | Total
Respondents:
Current | 166,406 | 166,406 | 166,406 | 499,218
Last Supporting Statement | 42,092 | 42,092 | 42,092 | 126,276
Difference | 124,314 | 124,314 | 124,314 | 372,942
Burden Hours:
Current | 610,710 | 442,640 | 790,429 | 1,843,778
Last Supporting Statement | 196,429 | 149,286 | 220,983 | 566,698
Difference | 414,281 | 293,354 | 569,446 | 1,277,080

(7) An estimate of the total public burden (in cost) associated with the collection: $102,056,286.

Dated: March 6, 2019.
Scott Elmore,
PRA Clearance Officer, Office of the Chief Information Officer, U.S. Immigration and Customs Enforcement, Department of Homeland Security.

[FR Doc. 2019-04335 Filed 3-8-19; 8:45 am]

BILLING CODE 9111-28-P